NUCLEAR REGULATORY COMMISSION

Advisory Committee on Reactor Safeguards

In accordance with the purposes of Sections 29 and 182b of the Atomic Energy Act (42 U.S.C. 2039, 2232b), the Advisory Committee on Reactor Safeguards (ACRS) will hold a meeting on September 9-11, 2010, 11545 Rockville Pike, Rockville, Maryland. The date of this meeting was previously published in the Federal Register on Monday, October 14, 2009 (74 FR 52829-52830).

Thursday, September 9, 2010, Conference Room T2-B1, Two White Flint North, Rockville, Maryland

8:30 a.m.-8:35 a.m.: Opening Remarks by the ACRS Chairman (Open)—The ACRS Chairman will make opening remarks regarding the conduct of the meeting.

8:35 a.m.-10:30 a.m.: Potential Approaches to Resolve Generic Safety Issue (GSI)-191, Assessment of Debris Accumulation on Pressurized Water Reactor Sump Performance (Open)—The Committee will hear presentations by and hold discussions with representatives of the NRC staff regarding potential approaches to resolve GSI-191.

10:45 a.m.-12:15 p.m.: Amendment to the Design Control Document (DCD) for the Certified Advanced Boiling Water Reactor (ABWR) Design (Open/Closed)—The Committee will hear presentations by and hold discussions with representatives of the NRC staff and South Texas Project Nuclear Operating Company regarding the amendment to the DCD for the certified ABWR design. [Note: A portion of this session may be closed in order to discuss and protect unclassified safeguards information pursuant to 5 U.S.C. 552b(c)(3).]

1:15 p.m.-2:45 p.m.: Long-Term Core Cooling Approach for the Economic Simplified Boiling Water Reactor (ESBWR) Design (Open/Closed)—The Committee will hold discussions with representatives of the NRC staff and General Electric-Hitachi Nuclear Energy (GEH) regarding the long-term core cooling approach for the ESBWR design. [Note: A portion of this session may be closed in order to discuss and protect information designed as proprietary pursuant to 5 U.S.C. 552b(c)(4).]

3 p.m.-5 p.m.: License Application for the Mixed Oxide (MOX) Fuel Fabrication Facility and the Associated Safety Evaluation Report (Open/Closed)—The Committee will hold discussions with representatives of the NRC staff and Shaw-Areva, LLC regarding the license application for the MOX Fuel Fabrication Facility and the associated Safety Evaluation Report. [Note: A portion of this session may be closed in order to discuss and protect information designed as proprietary pursuant to 5 U.S.C. 552b(c)(4).]

5:15 p.m.-7 p.m.: Preparation of ACRS Reports (Open/Closed)—The Committee will discuss proposed ACRS reports on matters discussed during this meeting as well as a response to the NRC Executive Director for Operations (EDO) regarding Draft Final Regulatory Guide 1.217, “Guidance for the Assessment of Beyond-Design Basis Aircraft Impacts.” [Note: A portion of this session may be closed in order to discuss and protect unclassified safeguards and proprietary information pursuant to 5 U.S.C. 552b(c)(3) and (4).]

Friday, September 10, 2010, Conference Room T2-B1, Two White Flint North, Rockville, Maryland

8:30 a.m.-8:35 a.m.: Opening Remarks by the ACRS Chairman (Open)—The ACRS Chairman will make opening remarks regarding the conduct of the meeting.

8:35 a.m.-9:30 a.m.: Proposed Interim Staff Guidance (ISG) DC/COL-ISG-13, “Assessing the Consequences of an Accidental Release of Radioactive Materials from Liquid Waste Tanks,” and Proposed DC/COL-ISG-14, “Assessing Groundwater Flow and Transport of Accidental Radionuclide Releases” (Open)—The Committee will hold discussions with representatives of the NRC staff regarding proposed ISG-13, “Assessing the Consequences of an Accidental Release of Radioactive Materials from Liquid Waste Tanks,” and ISG-14, “Assessing Groundwater Flow and Transport of Accidental Radionuclide Releases.”

9:45 a.m.-11:15 a.m.: Future ACRS Activities/Report of the Planning and Procedures Subcommittee (Open/Closed)—The Committee will discuss the recommendations of the Planning and Procedures Subcommittee regarding items proposed for consideration by the Full Committee during future ACRS Meetings and matters related to the conduct of ACRS business, including anticipated workload and member assignments. [Note: A portion of this meeting may be closed pursuant to 5 U.S.C. 552b(c)(2) and (6) to discuss organizational and personnel matters that relate solely to internal personnel rules and practices of ACRS, and information the release of which would constitute a clearly unwarranted invasion of personal privacy.]

11:15 a.m.-11:30 a.m.: Reconciliation of ACRS Comments and Recommendations (Open)—The Committee will discuss the responses from the NRC Executive Director for Operations to comments and recommendations included in recent ACRS reports and letters.

12:30 p.m.-1:30 p.m.: Assessment of the Quality of Selected NRC Research Projects (Open)—The Committee will hold discussions with members of the ACRS Panels regarding the quality assessment of the NRC research projects on: NUREG/CR-6947, “Human Factors Consideration with Respect to Emerging Technology in Nuclear Power Plants,” and NUREG/CR-6997, “Modeling a Digital Feedwater Control System Using Traditional Probabilistic Risk Assessment Methods.”

1:45 p.m.—7 p.m.: Preparation of ACRS Reports (Open/Closed)—The Committee will continue its discussion of proposed ACRS reports on matters discussed during this meeting as well as a response to the NRC Executive Director for Operations (EDO) regarding Draft Final Regulatory Guide 1.217, “Guidance for the Assessment of Beyond-Design Basis Aircraft Impacts.” [Note: A portion of this session may be closed in order to discuss and protect unclassified safeguards and proprietary information pursuant to 5 U.S.C.552b(c)(3) and (4).]

Saturday, September 11, 2010, Conference Room T2-B1, Two White Flint North, Rockville, Maryland

8:30 a.m.-4:30 p.m.: Preparation of ACRS Reports (Open)—The Committee will continue its discussion of proposed ACRS reports.

4:30 p.m.-5 p.m.: Miscellaneous (Open)—The Committee will discuss matters related to the conduct of Committee activities and specific issues that were not completed during previous meetings.

Procedures for the conduct of and participation in ACRS meetings were published in the Federal Register on October 14, 2009, (74 FR 52829-52830). In accordance with those procedures, oral or written views may be presented by members of the public, including representatives of the nuclear industry. Persons desiring to make oral statements should notify Mr. Cayetano Santos, Cognizant ACRS Staff (Telephone: 301-415-7270, E-mail: Cayetano.Santos@nrc.gov), five days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience.

Thirty-five hard copies of each presentation or handout should be provided 30 minutes before the meeting. In addition, one electronic copy of each presentation should be e-mailed to the Cognizant ACRS Staff one day before meeting. If an electronic copy cannot be provided within this timeframe, presenters should provide the Cognizant ACRS Staff with a CD containing each presentation at least 30 minutes before the meeting.

In accordance with Subsection 10(d) Public Law 92-463, and 5 U.S.C. 552b(c), certain portions of this meeting may be closed, as specifically noted above. Use of still, motion picture, and television cameras during the meeting may be limited to selected portions of the meeting as determined by the Chairman. Electronic recordings will be permitted only during the open portions of the meeting.

ACRS meeting agenda, meeting transcripts, and letter reports are available through the NRC Public Document Room (PDR) at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m. (ET), at least 10 days before the meeting to ensure the availability of this service.

Individuals or organizations requesting this service will be responsible for telephone line charges and for providing the equipment and facilities that they use to establish the video teleconferencing link. The availability of video teleconferencing services is not guaranteed.

Dated: August 16, 2010.
Andrew L. Bates,
Advisory Committee Management Officer.

[FR Doc. 2010-20690 Filed 8-19-10; 8:45 am]

BILLING CODE 7590-01-P